DEPARTMENT OF TRANSPORTATION

Office of the Secretary

[DOT Docket No. DOT-OST-2010-0074]

Future of Aviation Advisory Committee (FAAC); Notice of Meeting

AGENCY: U.S. Department of Transportation, Office of the Secretary of Transportation

ACTION: Notice of meeting.

SUMMARY: The Department of Transportation, Office of the Secretary of Transportation, announces the third meeting of the FAAC, which will be held in the Chicago area. This notice announces the date, time and location of the meeting, which will be open to the public. The purpose of FAAC is to provide advice and recommendations to the Secretary of Transportation to ensure the competitiveness of the U.S. aviation industry and its capability to effectively manage the evolving transportation needs, challenges, and opportunities of the global economy.

DATES: The meeting will be held on August 25, 2010, from 8:30 a.m. to 4:30 p.m.

ADDRESSES: The meeting will be held at the offices of the Federal Aviation Administration's Great Lakes Region Headquarters Building, O'Hare Lake Office Center, 2300 East Devon Avenue, Des Plaines, IL 60018.

Agenda: A presentation on the Next Generation Air Transportation System (NextGen) as well as expert presentations and committee discussions on financing, safety, the environment, workforce/labor, and competition will take place. A copy of the detailed agenda will be posted at http://www.dot.gov/faac.

Public Access: The meeting is open to the public. (See below for registration instructions.)

Entering the FAA Building:

• A valid form of government issued ID with an expiration date is required.

• Registration is from 7:15 to 8:30 a.m.

• Only pre-registered attendees may attend the meeting.

• Attendees must be screened and pass through a metal detector.

• No firearms are allowed in the building, including with protection detail.

• Special accessibility requirements should be noted at time of email registration.

• Parking is available along the East (Tollway) entrance into O'Hare Lake Office Park Complex. Visitors will be required to park outside guard controlled area and walk to entrance of building.

• Those using public transportation may use Chicago Transit Authority (CTA) Blue Line River Road, Rosemont exit. PACE Bus Service, Route 230, picks up from River Road station and stops at O'Hare Lake Office Park. More information at: http://www.pacebus.com/pdf/schedules/230sched.pdf

Public Comments: The public will be provided the opportunity to submit written comments in advance of the meeting. Comments received by close of business on August 20, 2010, will be used to inform the day's presentations. Comments should address one or more of the five topics (competition, environment, finance, safety and workforce/labor) that were published in the Federal Advisory Committee Charter at http://www.regulations.gov (Docket DOT-OST-2010-0074). You may file comments identified by the docket number DOT-OST-2010-0074 using any of the following methods:

• Federal eRulemaking Portal: go to http://www.regulations.gov and follow the online instructions for submitting comments.

• Mail: Docket Management Facility, U.S. Department of Transportation, 1200 New Jersey Ave., SE., Room W12-140, Washington, DC 20590-0001.

• Hand Delivery or Courier: West Building Ground Floor, Room W12-140, 1200 New Jersey Ave., SE., between 9 a.m. and 5 p.m. ET, Monday through Friday, except Federal holidays.

• E-mail: In addition, you may send a written copy of your comments and questions to FAAC@dot.gov and include one of the following in the subject line when making your e-mail submission; “Financing,” “Safety,” “Environment,” “Workforce/Labor,” “Competition,” and/or “General comment.”

SUPPLEMENTARY INFORMATION: The advisory committee will also meet on the following dates this year:

• October 20. Location: The Federal Aviation Administration, Western-Pacific Region, 15000 Aviation Boulevard, Hawthorne, CA 90250.

• December 15. Location: The Department of Transportation, Headquarters Building Atrium 1200 New Jersey Avenue, SE., Washington, DC 20590.

Members of the public may review the FAAC charter and minutes of FAAC meetings at http://www.regulations.gov in docket number DOT-OST-2010-0074 or the FAAC Web site at http://www.dot.gov/faac.

Registration

• Space is limited. Registration will be available first-come, first-serve. Once the maximum number of 150 registrants has been reached, registration will close. Requests to attend the meeting must be received by close of business on Friday, August 20.

• All foreign nationals must register and provide their date of birth and passport number by Wednesday, August 18.

• Persons with disabilities who require special assistance should advise the Department at FAAC@dot.gov, under the subject line of “Special Assistance” of their anticipated special needs as early as possible.

• To register: Send an email to FAAC@dot.gov with “Registration” in the subject line including the following information:

○ Last name, First name

○ Title (if any)

○ Company or affiliation (if any)

○ Address

○ Phone number

○ U.S. Citizen (Y/N)

○ E-mail address in order for us to confirm your registration

• The Federal Aviation Administration building is a secure Federal facility.

• Lunch will be available for purchase on-site (cash only).

• An e-mail will be sent confirming your registration along with details on security procedures for entering the Federal Aviation Administration building.

• There is no Internet access.

FOR FURTHER INFORMATION CONTACT: Pamela Hamilton, Designated Federal Official, Future of Aviation Advisory Committee, 202-267-9677, FAAC@dot.gov.

Issued on: August 9, 2010.
Ray LaHood,
Secretary of Transportation.

[FR Doc. 2010-19986 Filed 8-10-10; 11:15 am]

BILLING CODE 4910-9X-P